DEPARTMENT OF EDUCATION

[Docket No. ED-2022-SCC-0077]

Agency Information Collection Activities; Submission to the Office of Management and Budget for Review and Approval; Comment Request; National Public Education Financial Survey (NPEFS) 2022-2024

AGENCY: Institute of Education Sciences (IES), Department of Education (ED).

ACTION: Notice.

SUMMARY: In accordance with the Paperwork Reduction Act of 1995, ED is proposing a revision of a currently approved information collection.

DATES: Interested persons are invited to submit comments on or before September 21, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: National Public Education Financial Survey (NPEFS) 2022-2024.

OMB Control Number: 1850-0067.

Type of Review: Revision of a currently approved information collection.

Respondents/Affected Public: State, Local, and Tribal Governments.

Total Estimated Number of Annual Responses: 56.

Total Estimated Number of Annual Burden Hours: 7,327.

Abstract: The National Public Education Financial Survey (NPEFS) is an annual collection of state-level finance data that has been included in the National Center for Education Statistics (NCES) Common Core of Data (CCD) since FY 1982 (school year 1981-82). NPEFS provides function expenditures by salaries, benefits, purchased services, and supplies, and includes federal, state, and local revenues by source. The NPEFS collection includes data on all state-run schools from the 50 states, the District of Columbia, American Samoa, the Northern Mariana Islands, Guam, Puerto Rico, and the Virgin Islands. NPEFS data are used for a wide variety of purposes, including to calculate federal program allocations such as states' “average per-pupil expenditure” (SPPE) for elementary and secondary education, certain formula grant programs (e.g. Title I, Part A of the Elementary and Secondary Education Act of 1965 (ESEA) as amended, Impact Aid, and Indian Education programs). Furthermore, in addition to using the SPPE data as general information on the financing of elementary and secondary education, the U.S. Department of Education Secretary uses these data directly in calculating allocations for certain formula grant programs, including, but not limited to, title I, part A, of the ESEA, Impact Aid, and Indian Education programs. Other programs, such as the Education for Homeless Children and Youth program under title VII of the McKinney-Vento Homeless Assistance Act, and the Student Support and Academic Enrichment Grants under title IV, part A of the ESEA make use of SPPE data indirectly because their formulas are based, in whole or in part, on State title I, part A, allocations.

NCES's request to conduct the annual collection of state-level finance data for FY 2019-2021 was approved by the Office of Management and Budget (OMB) in August 2019 (OMB #1850-0067 v.17), and subsequent submissions (OMB #1850-0067 v.18-22) addressed changes driven by the global coronavirus pandemic as well as normal changes to include updated contact materials and Federal Register Notices. In this package NCES requests approval of the collection of National Public Education Financial Survey (NPEFS) data covering fiscal years 2022 through 2024 (corresponding to school years 2021/22 through 2023/24), that will be carried out in 2023 through 2025.

This NPEFS FY 2022-2024 request involves changes to the last approved NPEFS data collection instrument (Appendix B.1) to: (1) add new items to gather data on expenditures for specific sources of coronavirus (COVID-19) federal assistance funds; (2) remove items from the survey which ask for Title V, Part A expenditures; and (3) update headers to make the formatting more consistent for use in the NPEFS web application. This request also includes minor revisions to the Fiscal Data Plan (Appendix B.2) to provide definitions and clarify the questions related to the impact of COVID-19 on average daily attendance. Furthermore, we have updated the NPEFS reporting instructions (Appendix B.3) to add definitions for the new data items in Section 8 and remove the data items for Title V, Part A.

Dated: August 16, 2022.
Stephanie Valentine,
PRA Coordinator, Strategic Collections and Clearance, Governance and Strategy Division, Office of Chief Data Officer, Office of Planning, Evaluation and Policy Development.

[FR Doc. 2022-17942 Filed 8-19-22; 8:45 am]

BILLING CODE 4000-01-P